DEPARTMENT OF ENERGY

Federal Energy Regulatory Commission

Combined Notice of Filings #1

November 21, 2006.

Take notice that the Commission received the following electric corporate filings:

Docket Numbers: EC07-19-000.

Applicants: Allegheny Energy Supply Company, LLC; Allegheny Energy Supply Gleason Generation.

Description: Allegheny Energy Supply Company, LLC et al. submit an application for authorization under Section 203 of the Federal Power Act for the disposition of jurisdictional facilities and request for expedited consideration.

Filed Date: 11/13/2006.

Accession Number: 20061117-0062.

Comment Date: 5 p.m. Eastern Time on Monday, December 04, 2006.

Docket Numbers: EC07-20-000.

Applicants: NEO California Power LLC; NRG Power Marketing Inc.; Wayzata California Power Holdings, LLC.

Description: NEO California Power LLC, et al., submit a joint application for authorization of the disposition of jurisdictional facilities under Section 203 of the Federal Power Act.

Filed Date: 11/13/2006.

Accession Number: 20061120-0069.

Comment Date: 5 p.m. Eastern Time on Monday, December 04, 2006.

Docket Numbers: EC07-21-000.

Applicants: Wachovia Investment Holdings, LLC.

Description: Babcock & Brown LP et al. submits an Application for Order Authorizing Disposition of Jurisdictional Facilities under EC07-21.

Filed Date: 11/14/2006.

Accession Number: 20061120-0071.

Comment Date: 5 p.m. Eastern Time on Tuesday, December 05, 2006.

Docket Numbers: EC07-22-000.

Applicants: MACH Gen, LLC, Millennium Power Partners, L.P.; New Athens Generating Company, LLC; New Covert Generating Company, LLC; New Harquahala Generating, LLC; Satellite Senior Income Fund, LLC; MG Orbit Group, Ltd.

Description: MACH Gen, LLC et al. submit an application for order authorizing upstream disposition of jurisdictional facilities under Section 203 of the FPA and request for waivers.

Filed Date: 11/15/2006.

Accession Number: 20061120-0205.

Comment Date: 5 p.m. Eastern Time on Wednesday, December 06, 2006.

Docket Numbers: EC07-23-000.

Applicants: San Diego Gas & Electric Company; Otay Mesa Energy Center, LLC.

Description: San Diego Gas & Electric Company and Otay Mesa Energy Center, LLC submit a joint application for authorization under Section 206 of the FPA.

Filed Date: 11/15/2006.

Accession Number: 20061120-0073.

Comment Date: 5 p.m. Eastern Time on Wednesday, December 06, 2006.

Take notice that the Commission received the following exempt wholesale generator filings:

Docket Numbers: EG07-14-000.

Applicants: Brush Cogeneration Partners.

Description: Brush Cogeneration Partners submit a notice of self-certification of exempt wholesale generator status.

Filed Date: 11/16/2006.

Accession Number: 20061120-0203.

Comment Date: 5 p.m. Eastern Time on Thursday, December 07, 2006.

Take notice that the Commission received the following electric rate filings:

Docket Numbers: ER01-2230-005.

Applicants: Niagara Mohawk Power Corporation; New York Independent System Operator, Inc.

Description: Niagara Mohawk Power Corp Grid et al. submit an amendment of its Joint Refund Report filed 11/2/06.

Filed Date: 11/15/2006.

Accession Number: 20061120-0068.

Comment Date: 5 p.m. Eastern Time on Wednesday, December 06, 2006.

Docket Numbers: ER01-3103-013; ER04-617-002; ER99-3911-005; ER02-1884-005; ER99-3502-007.

Applicants: Energy Investors Funds Group, LLC; Project Finance Fund III, L.P.; United States Power Fund, L.P.; United States Power Fund II, L.P.; USPF II Institutional Fund, L.P.

Description: Energy Investors Funds Group, LLC et al. submits Notice of Change in Status to reflect a change in upstream ownership.

Filed Date: 11/16/2006.

Accession Number: 20061120-0199.

Comment Date: 5 p.m. Eastern Time on Thursday, December 07, 2006.

Docket Numbers: ER03-739-001.

Applicants: El Dorado Irrigation District.

Description: El Dorado Irrigation District submits an amendment to its updated market power analysis for Market Based Rate Authorization filed 9/16/06.

Filed Date: 11/15/2006.

Accession Number: 20061117-0096.

Comment Date: 5 p.m. Eastern Time on Wednesday, December 06, 2006.

Docket Numbers: ER05-1065-004.

Applicants: Entergy Services Inc.

Description: Entergy Services, Inc submits a compliance filing, Transmission Service Criteria pursuant to the Commission's Orders issued 4/24/06 and 10/18/06.

Filed Date: 11/16/2006.

Accession Number: 20061120-0207.

Comment Date: 5 p.m. Eastern Time on Thursday, December 07, 2006.

Docket Numbers: ER05-1497-003; ER05-1497-004.

Applicants: Dearborn Industrial Generation, LLC.

Description: Dearborn Industrial Generation, LLC submits a notice of cancellation of cost-based tariff and Re-Pagination of Reactive Power Supply Tariff, Original Volume No. 2.

Filed Date: 11/15/2006.

Accession Number: 20061120-0204.

Comment Date: 5 p.m. Eastern Time on Wednesday, December 06, 2006.

Docket Numbers: ER06-1353-001.

Applicants: Duke Power Company LLC; Duke Energy Carolinas, LLC.

Description: Duke Energy Carolinas, LLC submits its compliance filing involving a non-conforming long-term Transmission Service Agreement with North Carolina Municipal Power Agency 1 pursuant to FERC's 10/10/06 Order.

Filed Date: 11/09/2006.

Accession Number: 20061120-0055.

Comment Date: 5 p.m. Eastern Time on Thursday, November 30, 2006.

Docket Numbers: ER07-33-001.

Applicants: New York Independent System Operator, Inc.

Description: NYISO submits a completion Notification of Timing of Software Fix and Identification of Specific Period For Tariff Waiver Request.

Filed Date: 11/15/2006.

Accession Number: 20061115-5041.

Comment Date: 5 p.m. Eastern Time on Tuesday, December 28, 2006.

Docket Numbers: ER07-201-000.

Applicants: ISO New England Inc.; New England Power Pool Participants Committee.

Description: ISO New England, Inc et al. submits Revised Sheet 7118C et al. to FERC Electric Tariff 3, reflecting proposed changes to the criteria for selecting units in the Regulation market, as specified in Market Rule 1.

Filed Date: 11/13/2006.

Accession Number: 20061116-0047.

Comment Date: 5 p.m. Eastern Time on Monday, December 04, 2006.

Docket Numbers: ER07-224-000.

Applicants: NE Energy Management, LLC.

Description: NE Energy Management, LLC informs FERC that, as a result of a name change, it has succeeded to the market-based rate tariff of ECP Energy LLC etc.

Filed Date: 11/16/2006.

Accession Number: 20061120-0056.

Comment Date: 5 p.m. Eastern Time on Thursday, December 07, 2006.

Docket Numbers: ER07-226-000.

Applicants: Pacific Gas and Electric Company.

Description: Pacific Gas and Electric Company submits adjustments to transmission service rates under the Interconnection Agreement with Sacramento Municipal Utility District.

Filed Date: 11/17/2006.

Accession Number: 20061120-0201.

Comment Date: 5 p.m. Eastern Time on Friday, December 08, 2006.

Docket Numbers: ER07-227-000.

Applicants: NE Hydro Generating Company.

Description: NE Hydro Generating Co informs FERC that as a result of a name change, it has succeeded to the market-based rated tariff of Northeast Generation Company.

Filed Date: 11/16/2006.

Accession Number: 20061120-0202.

Comment Date: 5 p.m. Eastern Time on Thursday, December 07, 2006.

Docket Numbers: ER07-228-000; ER01-1147-003.

Applicants: PECO Energy Company.

Description: PECO Energy Co submits a modification to its market-based tariff to remove the market behavior rules, delete the Code of Conduct and affiliate sales provision re Public Service Enterprise Group Inc.

Filed Date: 11/14/2006.

Accession Number: 20061120-0066.

Comment Date: 5 p.m. Eastern Time on Tuesday, December 05, 2006.

Docket Numbers: ER07-229-000.

Applicants: San Diego Gas & Electric Company.

Description: San Diego Gas & Electric Co submits the Restated Interconnection Facilities Agreement and Restated Interconnection Agreement with Calpine Corp.

Filed Date: 11/17/2006.

Accession Number: 20061120-0088.

Comment Date: 5 p.m. Eastern Time on Friday, December 08, 2006.

Docket Numbers: ER07-230-000.

Applicants: Midwest Independent Transmission System Operator, Inc.

Description: Midwest Independent Transmission System Operator, Inc submits Facilities Construction Agreement with Invenergy Cannon Falls LLC and Great River Energy-Transmission.

Filed Date: 11/17/2006.

Accession Number: 20061120-0198.

Comment Date: 5 p.m. Eastern Time on Friday, December 08, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-20187 Filed 11-28-06; 8:45 am]

BILLING CODE 6717-01-P